DEPARTMENT OF TRANSPORTATION

Federal Railroad Administration

[Docket No. FRA-2024-0019]

Notice of Limitation on Claims Against Port of Longview Industrial Rail Corridor Expansion Project

AGENCY: Federal Railroad Administration (FRA), Department of Transportation (DOT).

ACTION: Notice.

SUMMARY: This notice announces final environmental action taken for the Port of Longview Industrial Rail Corridor Expansion Project. The purpose of this notice is to advise the public of the time limit to file any claims that may challenge these decisions and other Federal permits, licenses, and approvals for the Project.

DATES: A claim seeking judicial review of Federal agency actions for the listed rail transportation project will be barred unless the claim is filed on or before April 17, 2026. If the Federal law that authorizes judicial review of a claim provides a time period of less than two years for filing such claim, then the shorter time period applies.

FOR FURTHER INFORMATION CONTACT: For further information related to this notice, please contact Sydney Johnson, Attorney Adviser, Office of the Chief Counsel by email: sydney.johnson@dot.gov or by telephone: 202-536-9639.

SUPPLEMENTARY INFORMATION: Notice is given that FRA has taken final agency action by issuing certain approvals for the railroad project listed below. The actions on the project, as well as the laws under which such actions were taken, are described in the documentation issued in connection with the project to comply with the National Environmental Policy Act (NEPA), available at https://railroads.dot.gov/rail-network-development/environment/environmental-reviews/port-longview-industrial-rail-corridor.

This notice applies to all Federal agency decisions on the listed project as of the issuance date of this notice and all laws under which such actions were taken, including but not limited to, NEPA (42 U.S.C. 4321-4375); section 4(f) requirements (23 U.S.C. 138, 49 U.S.C. 303); section 106 of the National Historic Preservation Act (54 U.S.C. 306108); the Clean Air Act (42 U.S.C. 7401-7671q); the Endangered Species Act (16 U.S.C. 1531-1544); the Clean Water Act (33 U.S.C. 1251), the Rivers and Harbors Act of 1899 (33 U.S.C. 403), the Coastal Zone Management Act of 1972 (16 U.S.C. 1451), and relevant Executive orders (E.O.) including but not limited to, E.O. 11988 Floodplain Management; and E.O. 12898, Federal Actions to Address Environmental Justice in Minority Populations and Low-Income Populations. This notice does not, however, alter or extend a shorter limitation period that may exist for challenges of project decisions covered by this notice. The project that is the subject of this notice follows:

Project name and location: Port of Longview Industrial Rail Corridor Expansion (IRCE) Project, Longview, Washington.

Project Summary: The Port of Longview (Port) is a deep-draft, full-service port operating in Washington on the Columbia River approximately 66 miles upstream from the Pacific Ocean. Rail service to the Port is provided primarily via the Port's industrial Rail Corridor (IRC), which consists of a two-track rail line connecting the Port's marine terminals to the Class I mainline rail line that runs between Seattle and Portland.

The IRCE Project involves expanding the existing IRC to provide improved rail service to the Port's marine terminals. The IRCE Project includes construction of a six-track rail embankment adjacent to the current two-track rail corridor; lengthening of the existing two tracks by 1,000 feet for a total of 8,500 feet; and constructing two new 8,500-foot rail tracks. Construction includes new stormwater conveyance and treatment facilities, track operation systems, lighting, utility improvements, and rail crew support facilities.

Federal funding awarded to the Port for the IRCE Project includes a DOT grant under the Rebuilding American Infrastructure with Sustainability and Equity (RAISE) program and congressionally directed Fiscal Year 2022 Consolidated Rail Infrastructure and Safety Improvements (CRISI) program funds. The Port has also been awarded a Federal Highway Administration grant under the National Highway Freight Program (NHFP). The Maritime Administration (MARAD) is administering the RAISE and NHFP grants, which will be used to fund engineering design and construction of the IRCE Project. FRA is administering the CRISI grant, which will be used for property acquisition to support the IRCE Project.

In 2023, the Port, in coordination with MARAD, prepared an Environmental Assessment (EA) for the IRCE Project to evaluate potential impacts to the human and natural environment, in accordance with NEPA. MARAD was the lead Federal agency for the oversight of the NEPA process. FRA was a cooperating agency in the development of the EA. MARAD issued a Finding of No Significant Impact (FONSI) for the Project's EA on October 31, 2023. FRA adopted MARAD's EA and approved its own FONSI for the Project on November 3, 2023.

Authority: 49 U.S.C. 24201(a)(4) and 23 U.S.C. 139(l)(1).

Issued in Washington, DC.
Marlys Ann Osterhues,
Director, Environmental Program Management.

[FR Doc. 2024-08132 Filed 4-16-24; 8:45 am]

BILLING CODE 4910-06-P